ENVIRONMENTAL PROTECTION AGENCY

[EPA-HQ-OPP-2010-0887; FRL-8854-3]

DCNA (dicloran), Ziram, Diquat Dibromide, and Chloropicrin; Notice of Receipt of Requests to Voluntarily Amend Registrations to Terminate Certain Uses

AGENCY: Environmental Protection Agency (EPA).

ACTION: Notice.

SUMMARY: In accordance with section 6(f)(1) of the Federal Insecticide, Fungicide, and Rodenticide Act (FIFRA), as amended, EPA is issuing a notice of receipt of requests by the registrants to voluntarily amend their DCNA (dicloran), ziram, diquat dibromide, and chloropicrin product registrations to terminate or delete uses. The requests would delete DCNA use on potatoes, ziram use on blackberries, diquat dibromide use on soybean and sorghum, and chloropicrin use on mushroom casing, potting soil, and small area seed beds when using hand-held fumigation devices. The requests would not terminate the last DCNA, ziram, diquat dibromide, and chloropicrin products registered for use in the United States. EPA intends to grant these requests at the close of the comment period for this announcement unless the Agency receives substantive comments within the comment period that would merit its further review of the requests, or unless the registrants withdraw its requests. If these requests are granted, any sale, distribution, or use of products listed in this notice will be permitted after the uses are deleted only if such sale, distribution, or use is consistent with the terms as described in the final order.

DATES: Comments on the proposed amendments to ziram, diquat dibromide and chloropicrin labels must be received on or before January 3, 2011. Comments on the proposed amendments to the DCNA label must be received on or before May 31, 2011.

ADDRESSES: Submit your comments, identified by docket identification (ID) number EPA-HQ-OPP-2010-0887, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0887. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For pesticide specific information contact: The Chemical Review Manager identified in the table below for the pesticide of interest.

Active ingredient | Chemical review manager, telephone Number, e-mail address
Chloropicrin | Andrea Carone, (703) 308-0122, carone.andrea@epa.gov.
DCNA | James Parker, (703) 306-0469, parker.james@epa.gov.
Diquat Dibromide | Eric Miederhoff, (703) 347-8028, miederhoff.eric@epa.gov.
Ziram | Kelly Ballard, (703) 305-8126, ballard.kelly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and/or Amend Registrations to Delete Uses

This notice announces receipt by EPA of requests from several registrants requesting that EPA amend their registrations as follows:

In a letter dated September 20, 2010, Gowan requested EPA to amend its DCNA product registrations to delete a certain use which is identified in Table 1 of Unit III. DCNA is a pre- and post-harvest fungicide used on a variety of crops and ornamentals.

In a letter dated June 3, 2010, the Ziram Task Force comprised of Taminco, Inc. and United Phosphorus, Inc. requested EPA to delete a certain use of pesticide product registrations identified in Table 1 of Unit III. Ziram is a broad spectrum fungicide used on a variety of crops such as stone fruits, pome fruits, nut crops, vegetables and commercially grown ornamentals.

In a letter dated May 17, 2010, Source Dynamics, LLC requested that EPA amend its diquat dibromide product registration to delete certain uses which are identified in Table 1 of Unit III.

In a letter dated July 12, 2010, Rotam North America, Inc. requested that EPA amend its diquat dibromide product registration to delete certain uses which are identified in Table 1 of Unit III.

In letters dated May 21, 2010, Sharda USA, LLC requested EPA amend its diquat dibormide product registrations to delete certain uses which are identified in Table 1 of Unit III.

In a letter dated June 9, 2010 Nufarm Americas, Inc. requested that EPA amend its diquat dibromide product registration to delete certain uses which are identified in Table 1 of Unit III.

In letters dated July 30, 2010 Aceto Agricultural Chemicals Corp. requested that EPA amend its diquat dibromide product registrations to delete certain uses which are identified in Table 1 of Unit III. Diquat dibromide is a non-selective contact algicide, defoliant, desiccant and herbicide.

In a letter dated July 27, 2010, ICL-IP America, Inc. requested that EPA amend its chloropicrin product registration to delete certain uses which are identified in Table 1 of Unit III.

In a letter dated July 28, 2010, Reddick Fumigants of NC, LLC requested that EPA amend its chloropicrin product registration to delete certain uses which are identified in Table 1 of Unit III.

In a letter dated July 28, 2010, Arysta LifeScience North America, LLC requested that EPA amend its chloropicrin product registration to delete certain uses which are identified in Table 1 of Unit III.

In a letter dated August 2, 2010, Cardinal Professional Products requested that EPA amend its chloropicrin product registration to delete certain uses which are identified in Table 1 of Unit III.

In a letter dated August 2, 2010, Hendrix and Dail, Inc. requested that EPA amend its chloropicrin product registrations to delete certain uses which are identified in Table 1 of Unit III.

In a letter dated August 2, 2010, Shadow Mountain Products Corporation requested that EPA amend its chloropicrin product registration to delete certain uses which are identified in Table 1 of Unit III.

In a letter dated August 3, 2010, ASHTA Chemicals, Inc. requested that EPA amend its chloropicrin product registration to delete certain uses which are identified in Table 1 of Unit III.

In a letter dated August 17, 2010, Chemtura Corporation requested that EPA amend its chloropicrin product registration to delete certain uses which are identified in Table 1 of Unit III. Chloropicrin is a nonselective soil fumigant with fungicidal, herbicidal, insecticidal, and nematicidal properties.

This action on the registrants' requests will not terminate the last DCNA, ziram, diquat dibromide, and chloropicrin products registered in the United States, but will amend all pesticide products registered in the United States for these uses, which can be found in Table 1 of Unit III.

III. What action is the Agency taking?

This notice announces receipt by EPA of requests from registrants to delete certain uses of DCNA, ziram, diquat dibromide, and chloropicrin product registrations. The affected products and the registrants making the requests are identified in Tables 1 and 2 of this unit.

Unless a request is withdrawn by the registrant or if the Agency determines that there are substantive comments that warrant further review of this request, EPA intends to issue an order amending the affected registrations.

Table 1—DCNA, Ziram, Diquat Dibromide, and Chloropicrin Product Registrations With Pending Requests for Amendment
Registration No. | Product name | Active ingredient | Uses to be deleted
228-675 | Nufarm Diquat SPC 2 L Herbicide | Diquat Dibromide | Sorghum and soybean.
2749-530 | Diquat dibromide 37.3% SL AG | Diquat Dibromide | Sorghum and soybean (seed crop only).
2749-531 | Diquat Manufacturing Concentrate | Diquat Dibromide | Sorghum and soybean (seed crop only).
5785-17 | Chlor-O-Pic | Chloropicrin | Mushroom casing soil, potting soil, and small area seed beds using handheld fumigation devices.
8536-2 | CHLOROPICRIN 100 FUMIGANT | Chloropicrin | Mushroom casing soil, potting soil, and small area seed beds using handheld fumigation devices.
8853-4 | HD-PIC FUMIGANT | Chloropicrin | Mushroom casing soil, potting soil, and small area seed beds using handheld fumigation devices.
8853-6 | PIC PLUS FUMIGANT | Chloropicrin | Mushroom casing soil, potting soil, and small area seed beds using handheld fumigation devices.
10163-189 | Botran 75-W Fungicide | DCNA | Potato.
10163-226 | Botran 5F Fungicide | DCNA | Potato.
10163-195 | Botran Technical | DCNA | Potato.
45728-12 | Ziram Granuflo Fungicide | Ziram | Blackberries.
58266-2 | TRI-CLOR FUMIGANT | Chloropicrin | Mushroom casing soil, potting soil, and small area seed beds using handheld fumigation devices.
62531-2 | ASHTA Gold | Chloropicrin | Mushroom casing soil, potting soil, and small area seed beds using handheld fumigation devices.
66330-47 | TM-442 | Chloropicrin | Mushroom casing soil, potting soil, and small area seed beds using handheld fumigation devices.
70506-173 | Ziram 76DF Fungicide | Ziram | Blackberries.
82542-15 | Solear Diquat 2L Desiccant | Diquat Dibromide | Sorghum and soybean (seed crop only).
82633-2 | Sharda Diquat Concentrate | Diquat Dibromide | Sorghum and soybean (seed crop only).
83529-13 | Diquash Ag | Diquat Dibromide | Sorghum and soybean (seed crop only).
83979-2 | Rowrunner Ag Herbicide | Diquat Dibromide | Sorghum and soybean.
85607-1 | Reddick PIC C-100 | Chloropicrin | Mushroom casing soil, potting soil, and small area seed beds using handheld fumigation devices.
8622-43 | Metapicrin | Chloropicrin | Mushroom casing soil, potting soil, and small area seed beds using handheld fumigation devices.

Table 2 of this unit includes the names and addresses of record for the registrants of the products listed in Table 1 of this unit, in sequence by EPA company number. This number corresponds to the first part of the EPA registration numbers of the products listed in Table 1 of this unit.

Table 2—Registrants Requesting Voluntary Cancellation and/or Amendments
EPA Company No. | Company name and address
228 | Nufarm Americas, Inc., 150 Harvester Drive, Suite 200, Burr Ridge, IL 60527.
2749 | Aceto Agricultural Chemicals Corporation, One Hollow Lane, Lake Success, NY 11042-1215.
5785 | Chemtura Corporation, 1801 Highway 52 West, P.O. Box 2200, West Lafayette, IN 47906.
8536 | Soil Chemicals Corporation dba Cardinal Professional Products, P.O. Box 782, 8770 Highway 25, Hollister, CA 95024-0782.
8622 | ICL-IP America, Inc., 95 MacCorkle Avenue, SW., South Charleston, WV 25303.
8853 | Hendrix and Dail, Inc., P.O. Box 648, Greenville, NC 27835-0648.
10163 | Gowan Company, P.O. Box 5569, Yuma, AZ 85366-5569.
45728 | Taminco, Inc., 21320 Sweet Clover Place, Ashburn, VA 20147.
58266 | Shadow Mountain Products Corporation, 8770 Highway 25, P.O. Box 1327, Hollister, CA 95024-1327.
62531 | ASHTA Chemicals Inc., 3509 Middle Road, P.O. Box 858, Ashtabula, OH 44005-0858.
66330 | Arysta LifeScience North America, LLC, 15401 Weston Parkway, Suite 150, Cary, NC 27513.
70506 | United Phosphorus, Inc., 630 Freedom Business Center, Suite 402, King of Prussia, PA 19406.
82542 | Source Dynamics, 10039 E. Troon North Drive, Scottsdale, AZ 85262.
82633 | Sharda Worldwide Exports Pvt. Ltd., Domnic Holm, 29th Road, Bandra (West) Mumbai-400050.
83979 | Rotam North America, Inc., 1400 NW. 107th Avenue, Suite 310, Miami, FL 33172.
85607 | Reddick Fumigants of NC, LLC, 3002 W. Main Street, Williamston, NC 27892.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The ziram, diquat dibromide, and chloropicrin registrants have requested that EPA waive the 180-day comment period. Accordingly, EPA will provide a 30-day comment period on the proposed requests. The DCNA registrant has not requested that EPA waive the 180-day comment period. Accordingly, EPA will provide a 180-day comment period on the proposed request to voluntarily cancel DCNA use on potatoes.

V. Procedures for Withdrawal of Requests

Registrants who choose to withdraw a request for product cancellation or use deletion should submit the withdrawal in writing to the person listed under FOR FURTHER INFORMATION CONTACT. If the products have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for amendments to delete uses are granted, the Agency intends to publish the cancellation order in the Federal Register.

In any order issued in response to these requests for amendments to delete uses, EPA proposes to include the following provisions for the treatment of any existing stocks of the products listed in Table 1 of Unit III.

For the chloropicrin products listed in Table 1 of Unit III registrants will be permitted to sell and distribute products under the previously approved labeling until December 1, 2010, provided the labels with the 2010 changes have not been accepted in all states, EPA may provide a revised date. Thereafter, registrants will be prohibited from selling or distributing the products whose labels include the deleted uses identified in Table 1 of Unit III, except for export consistent with FIFRA section 17 or for proper disposal.

Persons other than the registrant may sell, distribute, or use existing stocks of products whose labels include the deleted uses until supplies are exhausted, provided that such sale, distribution, or use is consistent with the terms of the previously approved labeling on, or that accompanied, the deleted uses.

For the DCNA, ziram, and diquat dibromide products listed in Table 1 of Unit III, once EPA has approved product labels reflecting the requested amendments to delete uses, registrants will be permitted to sell or distribute products under the previously approved labeling for a period of 12 months after the date of Federal Register publication of the cancellation order, unless other restrictions have been imposed. Thereafter, registrants will be prohibited from selling or distributing the products whose labels include the deleted uses identified in Table 1 of Unit III, except for export consistent with FIFRA section 17 or for proper disposal.

Persons other than the registrant may sell, distribute, or use existing stocks of products whose labels include the deleted uses until supplies are exhausted, provided that such sale, distribution, or use is consistent with the terms of the previously approved labeling on, or that accompanied, the deleted uses.

List of Subjects

Environmental protection, Pesticides and pests.

Dated: November 24, 2010.
Richard P. Keigwin, Jr.,
Director, Pesticide Re-evaluation Division, Office of Pesticide Programs.

[FR Doc. 2010-30224 Filed 11-30-10; 8:45 am]

BILLING CODE 6560-50-P